DEPARTMENT OF HEALTH AND HUMAN SERVICES

Administration for Children and Families

Submission for OMB Review; Comment Request

Title: Developmental Disabilities Program Independent Evaluation Project.

OMB No.: 0970-0372.

Description: The National Independent Study of the State Developmental Disabilities Programs (National Study) is an independent (non-biased) study to examine through rigorous and comprehensive research procedures the three programs funded under the Developmental Disabilities Assistance and Bill of Rights Act of 2000 (DD Act): (1) State Councils on Developmental Disabilities (SCDDs); (2) State Protection and Advocacy Systems for Individuals with developmental disabilities (P&As); and (3) University Centers for Excellence in Developmental Disabilities (UCEDDs). The purpose of the study is to assess program effectiveness and achievements, including collaborative efforts among these State developmental disabilities (DD) network programs. A component of the study will be an examination of the Administration on Developmental Disabilities' efficiency and effectiveness to support these DD Network programs. The results of this evaluation will provide a report to the Administration on Developmental Disabilities (ADD) (the agency that administers these programs) with information on the effectiveness of its programs and policies and serve as a way for ADD to promote accountability to the public.

The independent study is a response to accountability requirements for ADD as identified in the Developmental Disabilities Assistance and Bill of Rights Act of 2000 (DD Act), the Government Performance and Results Act (GPRA) of 1993, and the Program Assessment Rating Tool (PART), previously administered by the Office of Management and Budget (OMB).

ADD has OMB approval for all the evaluation tools (e.g., data collection instruments) for this study, except a new one being proposed. The new evaluation tool would be an on-line survey tool designed to collect data for an assessment of ADD.

Respondents: For the ADD assessment survey being added, the respondents would be Staff of State Councils on Developmental Disabilities, State Protection and Advocacy Systems for Individuals with developmental disabilities, and University Centers for Excellence in Developmental Disabilities, Education, Research, and Service

Annual Burden Estimates
Instrument | Number of respondents | Number of responses per respondent | Average burden hours per response | Total burden hours
ADD Assessment Survey | 60 | 1 | 1 | 60
DD Council Estimate of Total Burden Hours for Activities to Support Administration of Proposed Information Collection Instruments | 20 | 1 | 33.50 | 670
P&A Estimate of Total Burden Hours for Activities to Support Administration of Proposed Information Collection Instruments | 20 | 1 | 33.50 | 670
UCEDD Estimate of Total Burden Hours for Activities to Support Administration of Proposed Information Collection Instruments | 20 | 1 | 33.50 | 670
DD Council: Executive Director Interview | 20 | 1 | 4 | 80
DD Council: Interview with Council Chair/Council Members | 60 | 1 | 0.75 | 45
DD Council: Group Interview with Policymakers, Collaborators, and Grantees | 160 | 1 | 2 | 320
UCEDD: Telephone Interview with Current and Graduated Students | 100 | 1 | 0.75 | 75
UCEDD: Interview with the Consumer Advisory Committee | 60 | 1 | 0.75 | 45
UCEDD: Interview with Peer Researchers and Colleagues | 100 | 1 | 0.75 | 75
UCEDD: Interview with Recipients of Community Services or Members of Organizations/Agencies that are Trained to Provide Community Services | 100 | 1 | 0.75 | 75
UCEDD: Self-administered Form | 20 | 1 | 8 | 160
P&A: Executive Director Interview | 20 | 1 | 4 | 80
P&A: Staff Interview | 60 | 1 | 0.75 | 45
P&A: Board of Directors (Commissioners)-Chair and Members | 60 | 1 | 0.75 | 45
P&A: Group Interview with Policymakers and Collaborators | 160 | 1 | 2 | 320
P&A: Interview with Recipient of Community Education | 100 | 1 | 0.75 | 75
P&A: Interview with Clients | 100 | 1 | 0.75 | 75
P&A: Self-administered Form | 20 | 1 | 8 | 160
UCEDD: Interview with Director | 20 | 1 | 4 | 80
DD Council: Group Interview with Recipients of Self-Advocacy and Leadership Education and Training | 100 | 1 | 0.75 | 75
DD Council: Group Interview with Recipients of Education and Training to Improve Community Capacity | 100 | 1 | 0.75 | 75
DD Council: Self-administered Form | 20 | 1 | 8 | 160
Estimated Total Annual Burden Hours: |  |  |  | 4,135

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, E-mail: OIRA_SUBMISSION@OMB.EOP.GOV., Attn: Desk Officer for the Administration for Children and Families.

Dated: November 1, 2010.
Robert Sargis,
Reports Clearance Officer.

[FR Doc. 2010-27855 Filed 11-3-10; 8:45 am]

BILLING CODE 4184-01-P